SECURITIES AND EXCHANGE COMMISSION

[File No. 500-1]

In the Matter of: BIMS Renewable Energy, Inc. (n/k/a Tung Ding Resources, Inc.); Order of Suspension of Trading

November 1, 2007.

It appears to the Securities and Exchange Commission that there is a lack of current and accurate information concerning the securities of BIMS Renewable Energy, Inc. (n/k/a Tung Ding Resources, Inc.), because it has not filed a periodic report since the period ended June 30, 2004.

The Commission is of the opinion that the public interest and the protection of investors require a suspension of trading in the securities of the above-listed company.

Therefore, it is ordered, pursuant to section 12(k) of the Securities Exchange Act of 1934, that trading in the securities of the above-listed company is suspended for the period from 9:30 a.m. EDT on November 1, 2007 through 11:59 p.m. EST on November 14, 2007.

By the Commission.
Jill M. Peterson,
Assistant Secretary.

[FR Doc. 07-5519 Filed 11-1-07; 10:37 am]

BILLING CODE 8011-01-P